DEPARTMENT OF ENERGY

[Docket Nos. EA-147-B and EA-148-B]

Applications to Export Electric Energy; Aquila Energy Marketing Corporation

AGENCY: Office of Fossil Energy, DOE.

ACTION: Notice of applications.

SUMMARY: Under separate applications, Aquila Energy Marketing Corporation (“AEM”) has applied for renewal of its authority to transmit electric energy from the United States to Mexico and to Canada pursuant to section 202(e) of the Federal Power Act.

DATES: Comments, protests or requests to intervene must be submitted on or before August 6, 2001.

ADDRESSES: Comments, protests or requests to intervene should be addressed as follows: Office of Coal & Power Imports/Exports (FE-27), Office of Fossil Energy, U.S. Department of Energy, 1000 Independence Avenue, SW., Washington, DC 20585-0350 (FAX 202-287-5736).

FOR FURTHER INFORMATION CONTACT: Rosalind Carter (Program Office) 202-586-7983 or Michael Skinker (Program Attorney) 202-586-2793.

SUPPLEMENTARY INFORMATION: Exports of electricity from the United States to a foreign country are regulated and require authorization under section 202(e) of the Federal Power Act (FPA) (16 U.S.C. 824a(e)).

On June 19, 1997, in Docket EA-147, the Office of Fossil Energy (FE) of the Department of Energy (DOE) authorized AEM to transmit electric energy from the United States to Mexico using the international electric transmission facilities of San Diego Gas and Electric Company, El Paso Electric Company, Central Power and Light Company, and Comision Federal de Electricidad, the national electric utility of Mexico. That two-year authorization was renewed on August 11, 1999, in Docket EA-147-A and will expire on August 11, 2001.

On August 13, 1997, in Docket EA-148, FE authorized AEM to transmit electric energy from the United States to Canada using the international electric transmission facilities owned by Basin Electric Power Cooperative, Bonneville Power Administration, Citizens Utilities, Eastern Maine Electric Cooperative, Detroit Edison, Joint Owners of the Highgate Project, Long Sault, Inc., Maine Electric Power Company, Maine Public Service Company, Minnesota Power, Inc., Minnkota Power Cooperative, New York Power Authority, Niagara Mohawk Power Corporation, Northern States Power, and Vermont Electric Transmission Company. That two-year authorization was renewed on August 11, 1999, in Docket EA-148-A and will expire on August 11, 2001. On July 5, 2001, AEM filed applications with FE for renewal of both export authorizations for a term of two years or such other term as DOE may deem appropriate. DOE will consider renewal of the authorization for a period of five years.

DOE notes that the circumstances described in these applications are virtually identical to those for which export authority had previously been granted in FE Orders EA-147 and EA-148. Consequently, DOE believes that it has adequately satisfied its responsibilities under the National Environmental Policy Act of 1969 through the documentation of a categorical exclusion in the FE Dockets EA-147 and EA-148 proceedings.

In its applications, AEM requested expedited processing of this renewal application so that there would be no gap in its authority to export and it may continue exporting electric energy to Canada and to Mexico without interruption. Accordingly, DOE has shortened the comment period to 15 days.

Procedural Matters: Any person desiring to become a party to this proceeding or to be heard by filing comments or protests to these applications should file a petition to intervene, comment or protest at the address provided above in accordance with §§ 385.211 or 385.214 of the FERC's Rules of Practice and Procedures (18 CFR 385.211, 385.214). Fifteen copies of each petition and protest should be filed with the DOE on or before the date listed above.

Comments on the AEM application to export electric energy to Mexico should be clearly marked with Docket EA-147-B. Comments on the AEM application to export electric energy to Canada should be clearly marked with Docket EA-148-B. Additional copies are to be filed directly with David Stevenson, Aquila Energy Marketing Corporation, 1100 Walnut Street, Suite 3300, Kansas City, Missouri 64106 AND Kathryn A. Flaherty, Attorney for Aquila Energy Marketing Corporation, Blackwell Sanders Peper Martin, 13710 FNB Parkway, Suite 200, Omaha, Nebraska 68154.

Copies of these applications will be made available, upon request, for public inspection and copying at the address provided above or by accessing the Fossil Energy Home Page at http://www.fe.doe.gov. Upon reaching the Fossil Energy Home page, select “Electricity Regulation,” then “Pending Procedures” from the options menus.

Issued in Washington, DC, on July 16, 2001.
Anthony J. Como,
Deputy Director, Electric Power Regulation, Office of Coal & Power Imports/Exports, Office of Coal & Power Systems, Office of Fossil Energy.

[FR Doc. 01-18165 Filed 7-19-01; 8:45 am]

BILLING CODE 6450-01-P